DEPARTMENT OF ENERGY

Federal Energy Regulatory Commission

Combined Notice of Filings #1

Take notice that the Commission received the following electric corporate filings:

Docket Numbers: EC15-190-000.

Applicants: Town Square Energy, LLC, Town Square Energy East, LLC.

Description: Application for Authorization Under Section 203 of the Federal Power Act and Request for Expedited Consideration of Town Square Energy, LLC, et al.

Filed Date: 8/17/15.

Accession Number: 20150817-5148.

Comments Due: 5 p.m. ET 9/8/15.

Take notice that the Commission received the following electric rate filings:

Docket Numbers: ER15-1950-000.

Applicants: Southern Power Company.

Description: Response to July 24, 2015 letter requesting additional information of Southern Power Company.

Filed Date: 8/17/15.

Accession Number: 20150817-5123.

Comments Due: 5 p.m. ET 9/8/15.

Docket Numbers: ER15-2327-001.

Applicants: Appalachian Power Company.

Description: Tariff Amendment: OATT—Revise Attachments K, TCC & TNC Rate Update Amendment to be effective 12/31/9998.

Filed Date: 8/14/15.

Accession Number: 20150814-5224.

Comments Due: 5 p.m. ET 9/4/15.

Docket Numbers: ER15-2456-000.

Applicants: PacifiCorp.

Description: Section 205(d) Rate Filing: Georgia-Pacific E&P Agmt—Troutdale Sub to be effective 10/14/2015.

Filed Date: 8/14/15.

Accession Number: 20150814-5222.

Comments Due: 5 p.m. ET 9/4/15.

Docket Numbers: ER15-2457-000.

Applicants: Southern California Edison Company.

Description: Section 205(d) Rate Filing: GIA and Dist. Serv Agmt for Windland Refresh 2 Project WDT879QFC to be effective 8/15/2015.

Filed Date: 8/14/15.

Accession Number: 20150814-5226.

Comments Due: 5 p.m. ET 9/4/15.

Docket Numbers: ER15-2458-000.

Applicants: Pacific Gas and Electric Company.

Description: Section 205(d) Rate Filing: SMUD Distribution Construction Agreement to be effective 8/15/2015.

Filed Date: 8/17/15.

Accession Number: 20150817-5003.

Comments Due: 5 p.m. ET 9/8/15.

Docket Numbers: ER15-2459-000.

Applicants: Southwest Power Pool, Inc.

Description: Section 205(d) Rate Filing: 1886R4 Westar Energy, Inc. NITSA and NOA to be effective 8/1/2015.

Filed Date: 8/17/15.

Accession Number: 20150817-5097.

Comments Due: 5 p.m. ET 9/8/15.

Docket Numbers: ER15-2460-000.

Applicants: Southwest Power Pool, Inc.

Description: Section 205(d) Rate Filing: 1888 Westar Energy, Inc. NITSA and NOA to be effective 8/1/2015.

Filed Date: 8/17/15.

Accession Number: 20150817-5107.

Comments Due: 5 p.m. ET 9/8/15.

Docket Numbers: ER15-2461-000.

Applicants: Southwest Power Pool, Inc.

Description: Section 205(d) Rate Filing: 1891R4 Westar Energy, Inc. NITSA and NOA to be effective 8/1/2015.

Filed Date: 8/17/15.

Accession Number: 20150817-5114.

Comments Due: 5 p.m. ET 9/8/15.

Docket Numbers: ER15-2462-000.

Applicants: Southwest Power Pool, Inc.

Description: Section 205(d) Rate Filing: 1895R4 Westar Energy, Inc. NITSA and NOA to be effective 8/1/2015.

Filed Date: 8/17/15.

Accession Number: 20150817-5117.

Comments Due: 5 p.m. ET 9/8/15.

Take notice that the Commission received the following electric reliability filings:

Docket Numbers: RR15-8-001.

Applicants: North American Electric Reliability Corporation.

Description: Compliance Filing of the North American Electric Reliability Corporation in Response to Paragraph 18 of June 18, 2015 Order Concerning Amendments to NERC's Working Capital and Operating Reserve Policy.

Filed Date: 8/14/15.

Accession Number: 20150814-5248.

Comments Due: 5 p.m. ET 9/4/15.

Docket Numbers: RR15-14-000.

Applicants: North American Electric Reliability Corporation.

Description: Petition of North American Electric Reliability Corporation for Approval of the Amendments to Exhibit B of the Amended and Restated Delegation Agreement with Midwest Reliability Organization, Inc.—the MRO Bylaws.

Filed Date: 8/14/15.

Accession Number: 20150814-5303.

Comments Due: 5 p.m. ET 8/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2015.
Nathaniel J. Davis, Sr.,
Deputy Secretary.

[FR Doc. 2015-20938 Filed 8-24-15; 8:45 am]

BILLING CODE 6717-01-P